CIVIL RIGHTS COMMISSION

Sunshine Act Meeting Notice

AGENCY: United States Commission on Civil Rights.

ACTION: Notice of Commission public business meeting.

DATES: Friday, April 16, 2021, 12:00 p.m. EST.

ADDRESSES: Meeting to take place by telephone and is open to the public by telephone: 1-866-556-2537, Conference ID #896-5601. Computer assisted real-time transcription (CART) will be provided. The web link to access CART (in English) on Friday, April 16th, 2021, is https://www.streamtext.net/player?event=USCCR. Please note that CART is text-only translation that occurs in real time during the meeting and is not an exact transcript.

FOR FURTHER INFORMATION CONTACT: Angelia Rorison: 202-376-7700; publicaffairs@usccr.gov.

SUPPLEMENTARY INFORMATION:

Meeting Agenda

I. Motion to Approve Commissioner Norma Cantú to Serve as USCCR Chair

II. Approval of Agenda

III. Business Meeting

A. Discussion and Vote on Statement of Walter E. Williams

B. Discussion and Vote to continue the Policy of Rebuttals and Surrebuttals

C. Discussion and Vote to suspend Speaker Series

D. Discussion and Agreement to Appoint Bipartisan Commissioners to EAC

E. Discovery and Vote on FEMA Report Discovery Plan

F. Management and Operations

• Staff Director's Report

IV. Adjourn Meeting

Dated: April 9, 2021.
Angelia Rorison,
USCCR Media and Communications Director.

[FR Doc. 2021-07680 Filed 4-12-21; 4:15 pm]

BILLING CODE P